DEPARTMENT OF HEALTH AND HUMAN SERVICES

National Committee on Vital and Health Statistics: Meeting

Pursuant to the Federal Advisory Committee Act, the Department of Health and Human Services (HHS) announces the following advisory committee meeting.

Name: National Committee on Vital and Health Statistics (NCVHS), Subcommittee on Standards and Security (SSS).

Time and Date: July 26, 2005, 9 a.m.-5 p.m.; July 27, 2005, 8:30 a.m.-1 p.m.

Place: Hubert H. Humphrey Building, 200 Independence Avenue, SW., Room 800, Washington, DC 20201.

Status: Open.

Purpose: The morning of the 26th will be devoted to updates on e-prescribing standards and standards harmonization efforts, and updates from the Department of Health and Human Services on regulations and other initiatives related to e-prescribing. The afternoon will focus on secondary uses of clinical data. The Subcommittee will use the morning of the 27th to develop a work plan for future hearings.

Contact Person for More Information: Substantive program information as well as summaries of meetings and a roster of Committee members may be obtained from Maria Friedman, Health Insurance Specialist, Security and Standards Group, Centers for Medicare and Medicaid Services, MS: C5-24-04, 7500 Security Boulevard, Baltimore, MD 21244-1850, telephone: (410) 786-6333 or Marjorie S. Greenberg, Executive Secretary, NCVHS, National Center for Health Statistics, Centers for Disease Control and Prevention, Room 1100, Presidential Building, 3311 Toledo Road, Hyattsville, Maryland 20782, telephone: (301) 458-4245. Information also is available on the NCVHS home page of the HHS Web site: http://www.ncvhs.hhs.gov/ where an agenda for the meeting will be posted when available.

Should you require reasonable accommodation, please contact the CDC Office of Equal Employment Opportunity on (301) 458-4EEO (4336) as soon as possible.

Dated: July 10, 2005.
James Scanlon,
Acting Deputy Assistant Secretary for Science and Data Policy, Office of the Assistant Secretary for Planning and Evaluation.

[FR Doc. 05-14509 Filed 7-21-05; 8:45 am]

BILLING CODE 4151-05-M